DEPARTMENT OF VETERANS AFFAIRS

[OMB Control No. 2900-New (VR&E Longitudinal Study Survey)]

Agency Information Collection (Vocational Rehabilitation and Employment Longitudinal Study Survey); Activity Under OMB Review

AGENCY: Veterans Benefits Administration, Department of Veterans Affairs.

ACTION: Notice.

SUMMARY: In compliance with the Paperwork Reduction Act (PRA) of 1995 (44 U.S.C. 3501 -21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before May 7, 2012.

ADDRESSES: Submit written comments on the collection of information through www.Regulations.gov; or to VA's OMB Desk Officer, OMB Human Resources and Housing Branch, New Executive Office Building, Room 10235, Washington, DC 20503 (202) 395-7316. Please refer to “OMB Control No. 2900-New (VR&E Longitudinal Study Survey)” in any correspondence.

For Further Information or a Copy of the Submission Contact: Denise McLamb, Enterprise Records Service (005R1B), Department of Veterans Affairs, 810 Vermont Avenue NW., Washington, DC 20420, (202) 632-7479, FAX (202) 632-7583 or email: denise.mclamb@va.gov. Please refer to “OMB Control No. 2900-New (VR&E Longitudinal Study Survey)”.

SUPPLEMENTARY INFORMATION: Title: Vocational Rehabilitation and Employment Longitudinal Study Survey.

OMB Control Number: 2900-New (VR&E Longitudinal Study Survey).

Type of Review: New data collection.

Abstract: As required by Public Law 110-389 Section 334, VBA will collect survey data on individuals who began participating in the VR&E program during fiscal years 2010, 2012, and 2014. VA will conduct a study of this data to determine the long-term positive outcomes of individuals participating in VBA's VR&E program. The purpose of this study is to monitor the effectiveness of VR&E program, so that we can find ways to improve the program and increase the support VA provide to Veterans on a daily basis.

An agency may not conduct or sponsor, and a person is not required to respond to a collection of information unless it displays a currently valid OMB control number. The Federal Register Notice with a 60-day comment period soliciting comments on this collection of information was published on January 17, 2012, at pages 2349-2350.

Affected Public: Individuals and households.

Estimated Annual Burden: 2,333 hours.

Estimated Average Burden per Respondent: 20 minutes.

Frequency of Response: Annually.

Estimated Number of Respondents: 7,000.

Dated: April 3, 2012.
By direction of the Secretary.
Denise McLamb,
Program Analyst, Enterprise Records Service.

[FR Doc. 2012-8273 Filed 4-5-12; 8:45 am]

BILLING CODE 8320-01-P